DEPARTMENT OF AGRICULTURE

Commodity Credit Corporation

Domestic Sugar Program—Final 2005-Crop and Initial 2006-Crop Cane Sugar and Sugar Beet Marketing Allotments and Company Allocations

AGENCY: Commodity Credit Corporation, USDA.

ACTION: Notice.

SUMMARY: This notice sets forth the final 2005-crop and initial 2006-crop cane state allotments and company allocations to sugarcane and sugar beet processors. The 2005-crop year runs from October 1, 2005, through September 30, 2006 (fiscal year (FY) 2006). The 2006-crop (FY 2007) cane state allotments and company allocations are based on an 8.750 million short tons, raw value (STRV) overall allotment quantity (OAQ) of domestic sugar. These actions apply to all domestic sugar marketed for human consumption in the United States from October 1, 2006, through September 30, 2007. Although CCC already has announced all of the information in this notice, CCC is statutorily required to publish in the Federal Register determinations establishing, adjusting, or suspending sugar marketing allotments.

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@wdc.usda.gov.

FOR FURTHER INFORMATION CONTACT: Barbara Fecso at (202) 720-4146.

SUPPLEMENTARY INFORMATION:

Final FY 2006 State Allotments and Company Allocations

Section 359e(b) of the Agricultural Adjustment Act of 1938, as amended, (7 U.S.C. 1359ee(b) requires the Secretary to reassign allocation to imports if it is determined that processors will be unable to market their allocations and there is no CCC inventory. In a July 27, 2006 news release, CCC announced that the agency had determined that the domestic sugar supply would be unable to fill 246,000 STRV of the OAQ and, in accordance with the statute, reassigned this deficit to imports. Hence, state allotments and company allocations were adjusted downward to reflect each company's and each state's ability to market its allocation and allotment.

The final 2005-crop (FY 2006) beet and cane sugar marketing allotments and allocations are listed in the following table:

FY 2006 Overall Beet/Cane Allotments and Allocations
Distribution | FY 2006 Allotments/ allocations as of 3/22/06 | Change due to reassignments | Final FY 2006 allotments/ allocations
Beet Sugar | 4,839,725 | −63,345 | 4,776,380
Cane Sugar | 3,164,275 | −182,655 | 2,981,620
WTO Raw Sugar Tariff Rate Quota (TRQ) ¹ | 670,000 | 75,000 | 745,000
Mexico TRQ Raw or Refined | 276,000 | 0 | 276,000
Refined TRQ (global first-come, first-served) | 400,000 | 109,921 | 509,921
FY 2006 Non Program Imports | 0 | 61,079 | 61,079
Total OAQ | 9,350,000 | 0 | 9,350,000
Beet Processors' Marketing Allocations:
Amalgamated Sugar Co | 1,158,015 | −79,225 | 1,078,790
American Crystal Sugar Co | 1,731,118 | 6,000 | 1,737,118
Michigan Sugar Co | 467,030 | 3,984 | 471,014
Minn-Dak Farmers Co-op | 279,237 | 4,085 | 283,322
So. Minn Beet Sugar Co-op | 677,756 | 2,486 | 680,242
Western Sugar Co | 473,047 | 462 | 473,509
Wyoming Sugar Co | 53,521 | −1,136 | 52,385
Total Beet Sugar | 4,839,725 | −63,345 | 4,776,380
State Cane Sugar Allotments:
Florida | 1,445,792 | −78,164 | 1,367,628
Louisiana | 1,273,054 | −76,279 | 1,196,775
Texas | 180,425 | −4,095 | 176,330
Hawaii | 265,003 | −24,116 | 240,887
Puerto Rico | 0 | 0 | 0
Total Cane Sugar | 3,164,275 | −182,655 | 2,981,620
Cane Processors' Marketing Allocations:
Florida
Florida Crystals | 507,121 | −11,388 | 495,733
Growers Co-op. of FL | 265,129 | −3,913 | 261,216
U.S. Sugar Corp | 673,542 | −62,863 | 610,679
Total | 1,445,792 | −78,164 | 1,367,628
Louisiana
Alma Plantation | 131,302 | −3,141 | 128,161
Cajun Sugar Co-op | 124,626 | −10,892 | 113,734
Cora-Texas Mfg. Co | 153,001 | −13,707 | 139,294
Lafourche Sugars Corp | 73,075 | −1,527 | 71,548
Louisiana Sugarcane Co-op | 94,036 | −4,036 | 90,000
Lula Westfield, LLC | 168,219 | −5,177 | 163,043
M.A. Patout & Sons | 345,197 | −31,152 | 314,044
St. Mary Sugar Co-op | 106,250 | −2,100 | 104,150
So. Louisiana Sugars Co-op | 77,347 | −4,546 | 72,801
Total | 1,273,054 | −76,279 | 1,196,775
Texas
Rio Grande Valley | 180,425 | −4,095 | 176,330
Hawaii
Gay & Robinson, Inc | 54,638 | −2 | 54,636
Hawaiian Commercial & Sugar Company | 210,366 | −24,115 | 186,251
Total | 265,003 | −24,116 | 240,887
¹ 7/27/06 is for early entry FY07 raw sugar TRQ.

Initial FY 2007 State Allotments and Company Allocations

Section 359b(b)(1) of the Agricultural Adjustment Act of 1938, as amended, (7 U.S.C. 1359bb(b)(1) requires the Secretary to establish, by the beginning of each crop year, an appropriate allotment for the marketing by processors of sugar processed from sugar beets and from domestically produced cane sugar at a level the Secretary estimates will result in no forfeitures of sugar to CCC under the loan program. When CCC announced the 8.750 million ton OAQ for FY 2007 in July 2006, it distributed 54.35 percent of the FY 2007 OAQ (4,755,625 STRV) to the beet sugar allotment. At that time, however, CCC determined that the cane sector would be unable to fill 375,000 STRV of its allotment and, hence, withheld this amount for reassignment to imports. Consequently, of the 45.65 percent of the OAQ statutorily allotted to the cane sector (3,994,375 STRV), only 3,619,375 STRV was allotted to cane states for allocation to sugarcane processors. Cane state allotments and processor allocations were announced by CCC on September 28, 2006.

To establish beet processor allocations, CCC applies the beet sector's allotment to fixed company allocation shares. Likewise, cane state and cane processor allocations are calculated by applying fixed shares to the cane sugar allotment. Allocation amounts will change only if CCC determines that a processor cannot fill its sugar allocation for the year and reassigns the unused allocation to other processors or if a sugarcane grower successfully transfers allocation commensurate with his production history to another processor. On September 28, 2006, CCC transferred a portion of Alma Plantation L.L.C.'s allocation to Cora Texas Manufacturing Company based on growers' petitions to transfer allocation when Alma closed its Cinclare factory.

CCC is required to limit the amount of sugarcane acreage that may be harvested in Louisiana for sugar or seed whenever marketing allotments are in effect and the quantity of sugarcane estimated to be produced in Louisiana, plus a reasonable carryover, exceeds the marketing allotment allocation for Louisiana. This limitation is referred to as a “proportionate share,” and is applied to each farm's sugarcane acreage base to determine the quantity of sugarcane that may be harvested on that farm. Because production is expected to be inadequate to fill Louisiana's FY 2007 allotment, CCC has determined that there will be no proportionate share restrictions for the 2006 crop year.

In FY 2004, CCC determined that Puerto Rico's processors permanently terminated operations because no sugar had been processed for two complete years. Consequently, the allocation of 6,356 STRV was permanently reassigned to the mainland cane-producing states. Hawaii received none of Puerto Rico's reassignment because it is not expected to use all of its current cane sugar allotment. A request for an allocation as a new entrant would be required for any mills in Puerto Rico to market cane sugar in the future.

The established 2006-crop (FY 2007) beet and cane sugar marketing allotments are listed in the following table:

FY 2007 Overall Beet/Cane Allotments And Allocations
Distribution | Initial FY 2007 allotments/ allocations | Changes due to reassignments | Adjusted initial FY 2007 allotments/ allocations
Beet Sugar | 4,755,625 | 0 | 4,755,625
Cane Sugar | 3,994,375 | −375,000 | 3,619,375
Reassignment to Imports | 0 | 375,000 | 375,000
Total OAQ | 8,750,000 | 0 | 8,750,000
Beet Processors' Marketing Allocations:
Amalgamated Sugar Co | 990,810 | 0 | 990,810
American Crystal Sugar Co | 1,828,960 | 0 | 1,828,960
Michigan Sugar Co | 477,920 | 0 | 477,920
Minn-Dak Farmers Co-op | 296,690 | 0 | 296,690
So. Minn Beet Sugar Co-op | 624,582 | 0 | 624,582
Western Sugar Co | 473,221 | 0 | 473,221
Wyoming Sugar Co | 63,441 | 0 | 63,441
Total Beet Sugar | 4,755,625 | 0 | 4,755,625
State Cane Sugar Allotments:
Florida | 1,975,622 | −213,359 | 1,762,263
Louisiana | 1,528,365 | −143,141 | 1,385,224
Texas | 171,744 | 28,680 | 200,424
Hawaii | 318,644 | −47,179 | 271,465
Total Cane Sugar | 3,994,375 | −375,000 | 3,619,375
Cane Processors' Marketing Allocations:
Florida
Florida Crystals | 813,415 | −128,606 | 684,809
Growers Co-op. of FL | 355,385 | −45,052 | 310,334
U.S. Sugar Corp | 806,821 | −39,701 | 767,120
Total | 1,975,622 | −213,359 | 1,762,263
Louisiana
Alma Plantation | 127,988 | −7,199 | 120,789
Cajun Sugar Co-op | 154,543 | −28,052 | 126,491
Cora-Texas Mfg. Co | 159,455 | 14,258 | 173,712
Lafourche Sugars Corp | 83,245 | 115 | 83,359
Louisiana Sugarcane Co-op | 117,521 | −13,867 | 103,654
Lula Westfield, LLC | 180,483 | 10,756 | 191,239
M.A. Patout & Sons | 429,373 | −15,647 | 413,726
St. Mary Sugar Co-op | 155,667 | −43,313 | 112,354
So. Louisiana Sugars Co-op | 120,091 | −60,191 | 59,900
Total | 1,528,365 | −143,141 | 1,385,224
Texas
Rio Grande Valley | 171,744 | 28,680 | 200,424
Hawaii
Gay & Robinson, Inc | 73,145 | −25,618 | 47,527
Hawaiian Commercial & Sugar Company | 245,499 | −21,561 | 223,938
Total | 318,644 | −47,179 | 271,465

Signed in Washington, DC, on November 2, 2006.
Teresa C. Lasseter,
Executive Vice President, Commodity Credit Corporation.

[FR Doc. E6-19077 Filed 11-9-06; 8:45 am]

BILLING CODE 3410-05-P